DEPARTMENT OF DEFENSE

Department of the Army

Advisory Committee on Arlington National Cemetery (ACANC)

AGENCY: Department of the Army, DoD.

ACTION: Notice of open committee meeting.

SUMMARY: Pursuant to the Federal Advisory Committee Act of 1972 (5 U.S.C., Appendix, as amended), the Sunshine in the Government Act of 1976 (U.S.C. 552b, as amended) and 41 Code of the Federal Regulations (CFR 102-3. 140 through 160), the Department of the Army announces the following committee meeting:

Name of Committee: Advisory Committee on Arlington National Cemetery.

Date of Meeting: Wednesday, May 8, 2013.

Time of Meeting: 9:00 a.m.-4:00 p.m.

Place of Meeting: Women in Military Service for America Memorial, Conference Room, Arlington National Cemetery, Arlington, VA.

Proposed Agenda: Purpose of the meeting is to approve minutes from the previous meeting on September 10, 2012; review the State of Arlington National Cemetery, formalize business rules for memorial requests at ANC in accordance with Public Law 112-154; review status of subcommittee topics; and set the proposed calendar for follow-on meetings.

Public's Accessibility to the Meeting: Pursuant to 5 U.S.C. 552b and 41 CFR 102-3.140 through 102-3.165, and the availability of space, this meeting is open to the public. Seating is on a first-come basis.

FOR FURTHER INFORMATION CONTACT: Ms. Renea C. Yates; Designated Federal Officer; renea.c.yates.civ@mail.mil or 703-614-1248.

SUPPLEMENTARY INFORMATION: The following topics are on the agenda for discussion:

○ Army National Cemeteries operational update.

○ Memorial requests consultation IAW PL 112-154.

○ Subcommittee Activities:

“Honor” Subcommittee: independent recommendations of methods to address the long-term future of Arlington National Cemetery, including how best to extend the active burials and on what ANC should focus once all available space has been used.

“Remember” Subcommittee: recommendations on preserving the marble components of the Tomb of the Unknown Soldier, including the cracks in the large marble sarcophagus, the adjacent marble slabs, and the potential replacement of the marble stone for the sarcophagus already gifted to the Army.

“Explore” Subcommittee: recommendations on Section 60 Mementos study and improving the quality of visitors' experiences, now and for generations to come.

The Committee's mission is to provide the Secretary of Defense, through the Secretary of the Army, independent advice and recommendations on Arlington National Cemetery, including, but not limited to:

a. Management and operational issues, including bereavement practices;

b. Plans and strategies for addressing long-term governance challenges;

c. Resource planning and allocation; and

d. Any other matters relating to Arlington National Cemetery that the Committee's co-chairs, in consultation with the Secretary of the Army, may decide to consider.

Filing Written Statement: Pursuant to 41 CFR 102-3.140d, the Committee is not obligated to allow the public to speak; however, interested persons may submit a written statement for consideration by the Committee. Written statements must be received by the Designated Federal Officer at the following address: Advisory Committee on Arlington National Cemetery, ATTN: Designated Federal Officer (DFO) (Ms. Yates), Arlington National Cemetery, Arlington, Virginia 22211 not later than 5:00 p.m., Monday, May 6, 2013. Written statements received after this date may not be provided to or considered by the Advisory Committee on Arlington National Cemetery until the next open meeting. The Designated Federal Officer will review all timely submissions with the Committee Chairperson and ensure they are provided to the members of the Advisory Committee on Arlington National Cemetery.

Brenda S. Bowen,
Army Federal Register Liaison Officer.

[FR Doc. 2013-09556 Filed 4-23-13; 8:45 am]

BILLING CODE 3710-08-P